DEPARTMENT OF HOMELAND SECURITY

Coast Guard

33 CFR Part 117

[CGD11-05-019]

Drawbridge Operation Regulations; Carquinez Strait, Martinez, CA

AGENCY: Coast Guard, DHS.

ACTION: Notice of temporary deviation from regulations.

SUMMARY: The Commander, Eleventh Coast Guard District, has issued a temporary deviation from the regulation governing the operation of the Union Pacific Railroad Drawbridge across the Carquinez Strait, mile 7.0, at Martinez, CA. This deviation allows the bridge to remain in the closed-to-navigation position for the necessary replacement of drawspan Conley Joints.

DATES: This deviation is effective from 7 a.m. August 6, 2005 to 8 p.m. August 21, 2005.

ADDRESSES: Materials referred to in this document are available for inspection or copying at Commander (oan), Eleventh Coast Guard District, Building 50-3, Coast Guard Island, Alameda, CA 94501-5100 between 8 a.m. and 4 p.m., Monday through Friday, except Federal holidays. The telephone number is (510) 437-3516. Commander (oan), Eleventh Coast Guard District maintains the public docket for this temporary deviation.

FOR FURTHER INFORMATION CONTACT: David H. Sulouff, Chief, Bridge Section, Eleventh Coast Guard District, telephone (510) 437-3516.

SUPPLEMENTARY INFORMATION: The Union Pacific Railroad Company (UPRR) requested to secure the UPRR Drawbridge, mile 7.0, Carquinez Strait, in the closed-to-navigation position from August 6, 2005 through August 7, 2005 and from August 20, 2005 through August 21, 2005, during daylight hours, for the replacement of Conley Joints. The drawbridge provides 135 ft. vertical clearance above Mean High Water in the full open-to-navigation position, and 70 ft. vertical clearance when closed. The drawbridge opens on signal from approaching vessels, as required by 33 CFR 117.5.

The proposed work was coordinated with waterway users. During these times, the drawspan may be secured in the closed-to-navigation position and need not open for vessels. If safe to do so, a vessel can pass through the bridge during this period. The drawspan will be able to open in an emergency with a two-hour advance notice. The drawspan shall resume normal operations at all other times and at the conclusion of the repair work.

In accordance with 33 CFR 117.35(c), this work will be performed with all due speed in order to return the bridge to normal operation as soon as possible. This deviation from the operating regulations is authorized under 33 CFR 117.35.

Dated: July 25, 2005.
Kevin J. Eldridge,
Rear Admiral, U.S. Coast Guard, Commander, Eleventh Coast Guard District.

[FR Doc. 05-15417 Filed 8-3-05; 8:45 am]

BILLING CODE 4910-15-P